SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: July 1 through August 31, 2014.

ADDRESSES: Susquehanna River Basin Commission, 4423 North Front Street, Harrisburg, PA 17110-1788.

FOR FURTHER INFORMATION CONTACT: Jason E. Oyler, Regulatory Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded ABR Issued June 1-August 31, 2014

1. Chesapeake Appalachia, LLC, Pad ID: Graham, ABR-201012005, Morris Township, Tioga County, Pa.; Rescind Date: June 19, 2014.

2. Chesapeake Appalachia, LLC, Pad ID: Potluck Farm, ABR-201012022, Cherry Township, Sullivan County, Pa.; Rescind Date: June 19, 2014.

3. Chesapeake Appalachia, LLC, Pad ID: North40, ABR-201111026, Litchfield Township, Bradford County, Pa.; Rescind Date: June 19, 2014.

4. Chesapeake Appalachia, LLC, Pad ID: Molly J, ABR-201211003, Monroe and Overton Townships, Bradford County, Pa.; Rescind Date: June 19, 2014.

5. Chesapeake Appalachia, LLC, Pad ID: Ferris, ABR-201301004, Braintrim Township, Wyoming County, Pa.; Rescind Date: June 19, 2014.

6. Chesapeake Appalachia, LLC, Pad ID: Virginia, ABR-201303013, Auburn Township, Susquehanna County, Pa.; Rescind Date: June 19, 2014.

7. Chesapeake Appalachia, LLC, Pad ID: Wittiz, ABR-201304016, Franklin Township, Bradford County, Pa.; Rescind Date: June 19, 2014.

8. Carrizo (Marcellus), LLC, Pad ID: Wetterling, ABR-201208001, Owego Town, Tioga County, NY; Rescind Date: July 29, 2014.

9. Carrizo (Marcellus), LLC, Pad ID: Tomkins, ABR-201303002, McNett Township, Lycoming County, Pa.; Rescind Date: July 29, 2014.

10. Carrizo (Marcellus), LLC, Pad ID: Baumunk Lake South, ABR-201303004, Fox Township, Sullivan County, Pa.; Rescind Date: July 29, 2014.

11. Carrizo (Marcellus), LLC, Pad ID: Baumunk Lake North, ABR-201303005, Fox Township, Sullivan County, Pa.; Rescind Date: July 29, 2014.

12. SWEPI, LP, Pad ID: Staples 804, ABR-20100652, Clymer Township, Tioga County, Pa.; Rescind Date: August 11, 2014.

13. SWEPI, LP, Pad ID: Talley 488, ABR-201009081, Covington Township, Tioga County, Pa.; Rescind Date: August 11, 2014.

14. SWEPI, LP, Pad ID: Berguson 622, ABR-201010041, Covington Township, Tioga County, Pa.; Rescind Date: August 11, 2014.

15. SWEPI, LP, Pad ID: Stevens 413, ABR-201010043, Delmar Township, Tioga County, Pa.; Rescind Date: August 11, 2014.

16. SWEPI, LP, Pad ID: Parsons 613, ABR-201010053, Delmar Township, Tioga County, Pa.; Rescind Date: August 11, 2014.

17. SWEPI, LP, Pad ID: Smith 606, ABR-201102013, Duncan Township, Tioga County, Pa.; Rescind Date: August 11, 2014.

18. SWEPI, LP, Pad ID: Fenton 473, ABR-201102019, Charleston Township, Tioga County, Pa.; Rescind Date: August 11, 2014.

19. SWEPI, LP, Pad ID: Brucklacher 734, ABR-201106017, Jackson Township, Lycoming County, Pa.; Rescind Date: August 11, 2014.

20. SWEPI, LP, Pad ID: Hoffman 1201, ABR-201112038, Brookfield Township, Tioga County, Pa.; Rescind Date: August 11, 2014.

21. SWEPI, LP, Pad ID: Parker 727, ABR-201203022, Liberty Township, Tioga County, Pa.; Rescind Date: August 11, 2014.

22. SWEPI, LP, Pad ID: Brumwell 657, ABR-201212001, Richmond Township, Tioga County, Pa.; Rescind Date: August 11, 2014.

23. Hess Corporation, Pad ID: Miller, ABR-201007026, Scott Township, Wayne County, Pa.; Rescind Date: August 13, 2014.

24. Hess Corporation, Pad ID: Steinberg, ABR-201007027, Preston Township, Wayne County, Pa.; Rescind Date: August 13, 2014.

25. Hess Corporation, Pad ID: Medved, ABR-201007055, Preston Township, Wayne County, Pa.; Rescind Date: August 13, 2014.

26. Hess Corporation, Pad ID: Galiardo, ABR-201007056, Starrucca Borough, Wayne County, Pa.; Rescind Date: August 13, 2014.

27. Hess Corporation, Pad ID: Kraft, ABR-201008131, Starrucca Borough, Wayne County, Pa.; Rescind Date: August 13, 2014.

28. Hess Corporation, Pad ID: Steinberg 1H, ABR-201008132, Preston Township, Wayne County, Pa.; Rescind Date: August 13, 2014.

29. Hess Corporation, Pad ID: Gerhard, ABR-201008133, Scott Township, Wayne County, Pa.; Rescind Date: August 13, 2014.

30. Chevron Appalachia, LLC, Pad ID: Ritchey Unit Drilling Pad, ABR-20091010, Juniata Township, Blair County, Pa.; Rescind Date: August 13, 2014.

31. Chevron Appalachia, LLC, Pad ID: Lightner Drilling Pad #1, ABR-201007045, Juniata Township, Blair County, Pa.; Rescind Date: August 13, 2014.

32. Chevron Appalachia, LLC, Pad ID: Davis Drilling Pad #1, ABR-201007067, West St. Clair Township, Bedford County, Pa.; Rescind Date: August 13, 2014.

33. Chevron Appalachia, LLC, Pad ID: Boileau Drilling Pad #1, ABR-201010069, Goshen Township, Clearfield County, Pa.; Rescind Date: August 13, 2014.

34. Chevron Appalachia, LLC, Pad ID: Smithmyer Drilling Pad #1, ABR-201101020, Clearfield Township, Cambria County, Pa.; Rescind Date: August 13, 2014.

Authority: Pub. L. 91-575, 84 Stat. 1509 et seq., 18 CFR Parts 806, 807, and 808.

Dated: October 10, 2014.
Stephanie L. Richardson,
Secretary to the Commission.

[FR Doc. 2014-24701 Filed 10-16-14; 8:45 am]

BILLING CODE 7040-01-P